DEPARTMENT OF STATE

[Public Notice 6160]

Determination on Provision of Assistance to Comoros

Pursuant to Section 451 of the Foreign Assistance Act of 1961, as amended (the “Act”) (22 U.S.C. 2261), and Section 1-100(a)(1) of Executive Order 12163, as amended, I hereby authorize, notwithstanding any other provision of law, the use of up to $1 million in Fiscal Year 2008 funds available under Chapter 6 of Part II of the Act, in order to provide, for any unanticipated contingencies, assistance authorized by Part I of the Act (which is deemed to include references to Chapter 6 of Part II) for Comoros.

This determination shall be reported to Congress promptly and published in the Federal Register.

Dated: March 27, 2008.
Condoleezza Rice,
Secretary of State, Department of State.

[FR Doc. E8-7470 Filed 4-8-08; 8:45 am]

BILLING CODE 4710-26-P